DEPARTMENT OF TRANSPORTATION

Federal Aviation Administration

14 CFR Part 39

[Docket No. 2002-NM-02-AD]

RIN 2120-AA64

Airworthiness Directives; Airbus Model A330 and A340 Series Airplanes

AGENCY: Federal Aviation Administration, DOT.

ACTION: Notice of proposed rulemaking (NPRM).

SUMMARY: This document proposes the adoption of a new airworthiness directive (AD) that is applicable to all Airbus Model A330 and A340 series airplanes. This proposal would require revising the Airworthiness Limitations Section of the Instructions for Continued Airworthiness to incorporate life limits for the servo-controls located on the ailerons and replacement of the servo-controls with new servo-controls when they have reached their operational life limits. This action is necessary to prevent hydraulic leakage and failure of the servo-controls due to cracks in the end caps and along the barrel, which could result in loss of the ailerons and consequent reduced controllability of the airplane. This action is intended to address the identified unsafe condition.

DATES: Comments must be received by May 5, 2003.

ADDRESSES: Submit comments in triplicate to the Federal Aviation Administration (FAA), Transport Airplane Directorate, ANM-114, Attention: Rules Docket No. 2002-NM-02-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-02-AD” in the subject line and need not be submitted in triplicate. Comments sent via the Internet as attached electronic files must be formatted in Microsoft Word 97 for Windows or ASCII text.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-02-AD.” The postcard will be date stamped and returned to the commenter.

Availability of NPRMs

Any person may obtain a copy of this NPRM by submitting a request to the FAA, Transport Airplane Directorate, ANM-114, Attention: Rules Docket No. 2002-NM-02-AD, 1601 Lind Avenue, SW., Renton, Washington 98055-4056.

Discussion

The Direction Générale de l'Aviation Civile (DGAC), which is the airworthiness authority for France, notified the FAA that an unsafe condition may exist on all Airbus A330 and A340 series airplanes. The DGAC advises that the operational life limits for the servo-controls located on the ailerons, which are listed in Revision 8, chapter 05-11-00, configuration 1, of the Aircraft Maintenance Manual (AMM), dated September 15, 1999, are not addressed by section 9 of the Airworthiness Limitations Section (ALS), which replaces chapter 05-11-00 of the AMM. When the servo-controls have reached their operational life limits, it is necessary to remove and replace them with new servo-controls to prevent hydraulic leakage and failure due to cracks in the end caps and along the barrel, which could result in loss of the ailerons and consequent reduced controllability of the airplane.

Explanation of Action Taken by the DGAC

The DGAC issued French airworthiness directives 2001-529(B) and 2001-530(B), both dated November 14, 2001, to require operational life limits for the inboard and outboard aileron servo-controls operating in the active mode. The French airworthiness directives also require the replacement of the servo-controls with new servo-controls when the operational life limits have been reached.

FAA's Conclusions

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require a revision to the ALS of the Instructions for Continued Airworthiness to incorporate life limits for servo-controls located in the ailerons and replacement of the servo-controls with new servo-controls when the operational life limits have been reached.

Clarification of Compliance Time

French airworthiness directives 2001-529(B) and 2001-530(B) both include a note that provides a formula for calculating the remaining life (in the present configuration) for parts that have been used in several airplane models or type configurations. This proposed AD mirrors the compliance times specified in paragraphs (A) and (B) of the French airworthiness directives, but does not provide the formula specified in the note of the French airworthiness directives. However, we would consider a request for approval to use the specified formula, under the provisions of paragraph (d) of this proposed AD, provided that appropriate substantiating data accompany the request.

Cost Impact

The FAA estimates that 9 Model A330 series airplanes of U.S. registry would be affected by this proposed AD, that it would take approximately 5 work hours per airplane to accomplish the proposed actions, and that the average labor rate is $60 per work hour. Required parts would be provided to the operators at no cost. Based on these figures, the cost impact of the proposed AD on U.S. operators of Model A330 series airplanes is estimated to be $2,700, or $300 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it would require approximately 5 work hours to accomplish the proposed actions, at an average labor rate of $60 per work hour. Required parts would be provided to the operators at no cost. Based on these figures, the cost impact of this AD for Model A340 operators would be $300 per airplane.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-02-AD.

Applicability: All Model A330 and A340 series airplanes, certificated in any category.

Note 1: This AD requires revisions to certain operator maintenance documents to include new inspections. Compliance with these inspections is required by 14 CFR Part 91.403(c). For airplanes that have been previously modified, altered, or repaired in the areas addressed by these inspections, the operator may not be able to accomplish the inspections described in the revisions. In this situation, to comply with 14 CFR part 91.403(c), the operator must request approval for an alternative method of compliance in accordance with paragraph (d) of this AD. The request should include a description of changes to the required inspections that will ensure the continued damage tolerance of the affected structure. The FAA has provided guidance for this determination in Advisory Circular (AC) 25-1529.

Compliance: Required as indicated, unless accomplished previously.

To prevent hydraulic leakage and failure of the servo-controls located on the ailerons due to cracks in the end caps and along the barrel, which could result in loss of the ailerons and consequent reduced controllability of the airplane, accomplish the following:

Airworthiness Limitations Revision and Replacement of Servo-Control Units

(a) Within 30 days after the effective date of this AD, revise the Airworthiness Limitations Section (ALS) of the Instructions for Continued Airworthiness by inserting a copy of this AD into the ALS.

(b) Replace the servo-control units operating in the active mode at the times specified in the following table, counted from the date of initial installation on the airplane, as applicable:

Table—Part Numbers and Replacement Life Limits
For model— | Replace servo-controls having the following part numbers with new parts having the same part numbers: | Replace before
(1) A330 series airplanes | (i) 3337457-21, -22, and -23 (inboard) | 6,000 flight hours.
| (ii) 3337457-25, -26, and -27 (inboard) | 18,000 flight hours.
| (iii) 3337457-30, -31, -34, -35, -36, -37, and -38 (inboard) | 21,000 flight cycles or 32,000 flight hours, whichever occurs first.
| (iv) 3337457-59 and -60 (inboard) | 60,000 flight hours. This is a temporary and life limit; if the operator wants to use the parts beyond 60,000 flight hours the accumulated flight hours of the parts since their origin must be tracked and a request submitted for an alternative method of compliance in accordance with paragraph (d) of this AD.
| (v) 3337458-30, -31, -34, -35, -36, -37, and -38 (outboard) | 21,000 flight cycles or 32,000 flight hours, whichever occurs first.
| (vi) 3337458-59 and -60 (outboard) | 60,000 flight hours. This is a temporary life limit; if the operator wants to use the parts beyond 60,000 flight hours the accumulated flight hours of the parts since their origin must be tracked and a request submitted for an alternative method of compliance in accordance with paragraph (d) of this AD.
(2) A340 series airplanes | (i) 3337457-21, -22, and -23 (inboard) | 9,000 flight hours.
| (ii) 3337457-25, -26, and -27 (inboard) | 27,000 flight hours.
| (iii) 3337457-30, -31, -34, -35, -36, -37, and -38 (inboard) | 16,400 flight cycles or 65,600 flight hours, whichever occurs first.
| (iv) 3337457-59 and -60 (inboard) | 80,000 flight hours. This is a temporary and life limit; if the operator wants to use the parts beyond 80,000 flight hours the accumulated flight hours of the parts since their origin must be tracked and a request submitted for an alternative method of compliance in accordance with paragraph (d) of this AD.
| (v) 3337458-30, -31, -34, -35, -36, -37, and -38 (outboard) | 16,400 flight cycles or 65,600 flight hours, whichever occurs first.
| (vi) 3337458-59 and -60 (outboard) | 80,000 flight hours. This is a temporary and life limit and if the operator wants to use the parts beyond 80,000 flight hours must track the accumulated flight hours of the parts since their origin and request approval for an alternative method of compliance in accordance with paragraph (d) of this AD.

(c) Except as provided by paragraph (d) of this AD: After the actions specified in paragraphs (a) and (b) of this AD have been accomplished, no alternative life limits may be approved for the components specified in paragraph (b) of this AD.

Alternative Methods of Compliance

(d) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch, ANM-116.

Note 2: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

Note 3: The subject of this AD is addressed in French airworthiness directives 2001-529(B) and 2001-530(B), both dated November 14, 2001.

Issued in Renton, Washington, on March 28, 2003.
Michael J. Kaszycki,
Acting Manager, Transport Airplane Directorate, Aircraft Certification Service.

[FR Doc. 03-8065 Filed 4-2-03; 8:45 am]

BILLING CODE 4910-13-P